DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on October 1, 2013 through October 31, 2013. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Vaccine Injury Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: November 27, 2013.
Mary K. Wakefield,
Administrator.

List of Petitions Filed

1. Douglas Swift, Robbinsdale, Minnesota, Court of Federal Claims No: 13-0763V

2. Aleskis Brown on behalf of Isaiah Harris, Memphis, Tennessee, Court of Federal Claims No: 13-0766V

3. Reshama Shaikh, Philadelphia, Pennsylvania, Court of Federal Claims No: 13-0767V

4. Tammy Andrisek, Hamilton, Ohio, Court of Federal Claims No: 13-0768V

5. Clifton C. Eastin on behalf of Betty A. Eastin, Deceased, Aurora, Nebraska, Court of Federal Claims No: 13-0769V

6. Jeffrey W. Magera, St. Cloud, Minnesota, Court of Federal Claims No: 13-0770V

7. Christine Ketcham, Manhasset, New York, Court of Federal Claims No: 13-0771V

8. Barbara Carroll, Boston, Massachusetts, Court of Federal Claims No: 13-0772V

9. Sherry G. Alexander, San Antonio, Texas, Court of Federal Claims No: 13-0775V

10. Huey Hampton, Beaumont, Texas, Court of Federal Claims No: 13-0776V

11. Shawn Kao, Bellevue, Washington, Court of Federal Claims No: 13-0777V

12. Brenda Theriot, Flower Mound, Texas, Court of Federal Claims No: 13-0778V

13. Misty and James Hogan on behalf of S.M.H., Reading, Pennsylvania, Court of Federal Claims No: 13-0780V

14. Kenneth Schultheis, Baltimore, Maryland, Court of Federal Claims No: 13-0781V

15. Donna Monarch, Washington, District of Columbia, Court of Federal Claims No: 13-0782V

16. Linda Wheeler, Bel Air, Maryland, Court of Federal Claims No: 13-0783V

17. James J. Cotner, Tucson, Arizona, Court of Federal Claims No: 13-0785V

18. Geraldine Jones, Lena, Mississippi, Court of Federal Claims No: 13-0786V

19. Summer Paolone, Philadelphia, Pennsylvania, Court of Federal Claims No: 13-0787V

20. Adrienne N. Severt, North Wilkesboro, North Carolina, Court of Federal Claims No: 13-0788V

21. Robert Rotterman, Orchard Park, New York, Court of Federal Claims No: 13-0791V

22. Vivian Morales Rivera, Guayama, Puerto Rico, Court of Federal Claims No: 13-0793V

23. Janet Buksa, Palos, Illinois, Court of Federal Claims No: 13-0795V

24. Kathleen Harman, Cedar Park, Texas, Court of Federal Claims No: 13-0796V

25. Luis Gamardo, Boston, Massachusetts, Court of Federal Claims No: 13-0797V

26. Connie C. Medina, Carson City, Nevada, Court of Federal Claims No: 13-0798V

27. Elizabeth and Andrew Fouch on behalf of Jessica Fouch, Manhattan Beach, California, Court of Federal Claims No: 13-0799V

28. Timothy P. Bombard and Jacqueline Bombard on behalf of Lucy Bombard, Somers Point, New Jersey, Court of Federal Claims No: 13-0801V

29. Debra L. Kuhn, North Willowgrove, Pennsylvania, Court of Federal Claims No: 13-0802V

30. Margaret Turiano, Philadelphia, Pennsylvania, Court of Federal Claims No: 13-0803V

31. Mark Cleveland, Toccoa, Georgia, Court of Federal Claims No: 13-0804V

32. Patricia Okai, Oak Forrest, Illinois, Court of Federal Claims No: 13-0805V

33. Kimberly Bowman, Staten Island, New York, Court of Federal Claims No: 13-0807V

34. Jessica and Ryan Dean on behalf of Iris Dean, Phoenix, Arizona, Court of Federal Claims No: 13-0808V

35. Mavis E. Luther, Le Mars, Iowa, Court of Federal Claims No: 13-0810V

36. Tracy Fox, Southampton, Pennsylvania, Court of Federal Claims No: 13-0813V

37. Leona Faye Thompson, Marshall County, Alabama, Court of Federal Claims No: 13-0815V

38. Paul Grabarek, Chicago, Illinois, Court of Federal Claims No: 13-0817V

39. Alanna Sullivan Barker, Littleton, Colorado, Court of Federal Claims No: 13-0818V

40. Lisa Ann Hambleton, Tiffin, Ohio, Court of Federal Claims No: 13-0819V

41. Cathy A. Liva, Honolulu, Hawaii, Court of Federal Claims No: 13-0820V

42. Henry Simmons, Boston, Massachusetts, Court of Federal Claims No: 13-0825V

43. Ronniesha Thomas, Waterbury, Connecticut, Court of Federal Claims No: 13-0827V

44. Lisa Jones, Washington, District of Columbia, Court of Federal Claims No: 13-0828V

45. David D. Leoce, Clermont, Florida, Court of Federal Claims No: 13-0829V

46. Robin Harrison, Cincinnati, Ohio, Court of Federal Claims No: 13-0831V

47. Robert N. Jacobson, Putnam, Connecticut, Court of Federal Claims No: 13-0832V

48. Demetrice Bell-O'Neal on behalf of A.O., Sarasota, Florida, Court of Federal Claims No: 13-0835V

49. Charles Kiklis, Somerville, Massachusetts, Court of Federal Claims No: 13-0836V

50. Mae Miller, Pittsburgh, Pennsylvania, Court of Federal Claims No: 13-0837V

51. Brad Colvis, Sacramento, California, Court of Federal Claims No: 13-0841V

52. Kevin M. Meaney, Naples, Florida, Court of Federal Claims No: 13-0842V

53. Thomas O'Keeffe, Falmouth, Massachusetts, Court of Federal Claims No: 13-0847V

54. Debbie Harris, Boston, Massachusetts, Court of Federal Claims No: 13-0848V

55. Kristin Cooper and Arthur Writesel on behalf of SW., Boston, Massachusetts, Court of Federal Claims No: 13-0849V

56. Jeffrey Faucher and Filomena Faucher on behalf of C.F., Boston, Massachusetts, Court of Federal Claims No: 13-0850V

57. Seechel Patel, Coral Springs, Florida, Court of Federal Claims No: 13-0851V

58. Adam Luna on behalf of E.L., Court of Federal Claims No: 13-0852V

59. Gary Abdulla, Boston, Massachusetts, Court of Federal Claims No: 13-0853V

60. Douglas Andor, Chicago, Illinois, Court of Federal Claims No: 13-0858V

61. Aaron Sandoval, Phoenix, Arizona, Court of Federal Claims No: 13-0860V

[FR Doc. 2013-28889 Filed 12-2-13; 8:45 am]

BILLING CODE 4165-15-P